DEPARTMENT OF ENERGY

Federal Energy Regulatory Commission

[Docket No. IC24-17-000]

Commission Information Collection Activities (FERC-725L) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC 725L (Mandatory Reliability Standards for the Bulk-Power System: MOD Reliability Standards). The 60-day notice comment period ended on September 27, 2024, and no comments were received.

DATES: Comments on the collection of information are due November 12, 2024.

ADDRESSES: Send written comments on FERC-725L to OMB through www.reginfo.gov/public/do/PRAMain. Attention: Federal Energy Regulatory Commission Desk Officer. Please identify the OMB Control Number (1902-0261) in the subject line of your comments. Comments should be sent within 30 days of publication of this notice to www.reginfo.gov/public/do/PRAMain.

Please submit copies of your comments to the Commission. You may submit copies of your comments (identified by Docket No. IC24-17-000) by one of the following methods:

Electronic filing through https://www.ferc.gov, is preferred.

• Electronic Filing: Documents must be filed in acceptable native applications and print-to-PDF, but not in scanned or picture format.

• For those unable to file electronically, comments may be filed by USPS mail or by other delivery methods:

○ Mail via U.S. Postal Service Only: Federal Energy Regulatory Commission, Secretary of the Commission, 888 First Street NE, Washington, DC 20426.

○ All other delivery methods: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov/ferc-online/overview. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Kayla Williams may be reached by email at DataClearance@FERC.gov, telephone at (202) 502-6468.

SUPPLEMENTARY INFORMATION:

Title: FERC-725L, Mandatory Reliability Standards for the Bulk-Power System: MOD Reliability Standards.

OMB Control No.: 1902-0261.

Type of Request: Three-year extension of the FERC-725L information collection requirements with no changes to the reporting requirements.

Abstract: MOD Reliability Standards ensure that generators remain in operation during specified voltage and frequency excursions, properly coordinate protective relays and generator voltage regulator controls, and ensure that generator models accurately reflect the generator's capabilities and equipment performance.

On May 30, 2013, the North American Electric Reliability Corporation (NERC) filed a petition explaining that the reliability of the Bulk-Power System benefits from “good quality simulation models of power system equipment,” and that “model validation ensures the proper performance of the control systems and validates the computer models used for stability analysis.” NERC further stated that the Reliability Standards will enhance reliability because the tests performed to obtain model data may reveal latent defects that could cause “inappropriate unit response during system disturbances.” ¹ Subsequently, on March 20, 2014, the Commission approved Reliability Standards MOD-025-2, MOD-026-1, and MOD-027-1. These Standards were intended to address generator verifications needed to support Bulk-Power System reliability that would also ensure that accurate data is verified and made available for planning simulations.¹

¹ Final Rule in Docket No. RM13-16-000.

On May 1, 2014,² the Commission approved Reliability Standards MOD-032-1 and MOD-033-2. These Standards were to address “system-level modeling data and validation requirements necessary for developing planning models and the Interconnection-wide cases that are integral to analyzing the reliability of the Bulk-Power System.”

² NERC Petition for Approval of Five Proposed Reliability Standards MOD-025-2, MOD-026-1, MOD-027-1, PRC-019-1, and PRC-024-1 submitted to FERC on 5/30/2013.

MOD-025-2, MOD-026-1, MOD-027-1, MOD-031-3, MOD-032-1, and MOD-033-2 are all currently approved within the FERC-725L information collection. The reporting requirements associated with each standard will not change as a result of this extension request.

Type of Respondents: NERC-registered entities including generator owners, transmission planners, planning authorities, balancing authorities, resource planners, transmission service providers, reliability coordinators, and transmission operators.³

³ In subsequent portions of this notice, the following acronyms will be used:

PA = Planning Authority, GO = Generator Owner, TP = Transmission Planner, BA = Balancing Authority, RP = Resource Planner, TSP = Transmission Service Provider, RC = Reliability Coordinator, TOP = Transmission Operator.

Estimate of Annual Burden: ⁴ The Commission estimates the annual public reporting burden ⁵ and cost for the information collection as:

⁴ “Burden” is defined as the total time, effort, or financial resources expended by persons to generate, maintain, retain, or disclose or provide information to or for a federal agency. For further explanation of what is included in the information collection burden, reference 5 CFR 1320.3.

⁵ Each of the five MOD standards in the FERC-725L information collection previously contained “one-time” components to their respondent burden. These one-time burden categories consisted primarily of activities related to establishing industry practices and developing data validation procedures tailored toward these reliability standards and their reporting requirements. None of the one-time burdens apply any longer, so they are being removed from the FERC-725L information collection.

MOD-025-2
[Verification and data reporting of generator real and reactive power capability and synchronous condenser reactive power capability]
| Number of respondents ⁶ | Annual number of responses per respondent | Total number of responses | Average burden & cost per response | Total annual burden hours & total annual cost | Cost per respondent ($)
| (1) | (2) | (1) * (2) = (3) | (4) | (3) * (4) = (5) | (5) ÷ (1)
Verification and Data Reporting (Attachment 2) | 1210 (GO) | 1 | 1210 | ⁷ 6 hrs.; $463.74 | 7,260 hrs.; $561,125.40 | $463.74
Evidence Retention | 1210 (GO) | 1 | 1210 | ⁸ 1 hr.; $39.58 | 1210 hrs.; $47,891.80 | 39.58
Total |  |  |  |  | 8,470 hrs.; $609,017.20 |

MOD-026-1
[Verification of models and data for generator excitation control system or plant volt/variance control functions]
| Number of respondents | Annual number of responses per respondent | Total number of responses | Average burden & cost per response | Total annual burden hours & total annual cost | Cost per respondent ($)
| (1) | (2) | (1) * (2) = (3) | (4) | (3) * (4) = (5) | (5) ÷ (1)
Instructions for obtaining excitation control system or plant voltage/variance control function model | 203 (TP) | 1 | 203 | 8 hrs.; $618.32 | 1,624 hrs.; $125,518.96 | $618.32
Documentation on generator verification | 605 (GO) | 1 | 605 | 8 hrs.; $618.32 | 4,840 hrs.; $374,083.60 | 618.32
Evidence Retention | 808 (GO and TOP) | 1 | 808 | 1 hr.; $39.58 | 808 hrs.; $31,948.32 | 39.58
Total |  |  |  |  | 7,272 hrs.; $531,550.88 |

MOD-027-1
[Verification of models and data for turbine/governor and load control or active power/frequency control functions]
| Number of respondents | Annual number of responses per respondent | Total number of responses | Average burden & cost per response | Total annual burden hours & total annual cost | Cost per respondent ($)
| (1) | (2) | (1) * (2) = (3) | (4) | (3) * (4) = (5) | (5) ÷ (1)
Instructions for obtaining excitation control system or plant voltage/variance control function model | 203 (TP) | 1 | 203 | 8 hrs.; $618.32 | 1,624 hrs.; $125,518.96 | $618.32
Documentation on generator verification | 605 (GO) ⁹ | 1 | 605 | 8 hrs.; $618.32 | 4,840 hrs.; $374,083.60 | 618.32
Evidence Retention | 808 (GO and TP) | 1 | 808 | 1 hr.; $39.58 | 808 hrs.; $31,980.64 | 39.58
Total |  |  |  |  | 7,272 hrs.; $531,583.20 |

MOD-031-3 (Demand and Energy Data), Included in FERC-725L
Reliability standard MOD-031-3 | Number and type of respondents | Annual number of responses per respondent | Total number of responses | Average burden & cost per response ¹⁰ | Total annual burden hours & total annual cost | Cost per respondent
| (1) | (2) | (1) * (2) = (3) | (4) | (3) * (4) = (5) | (5) ÷ (1)
Develop summary in accordance with Requirement R1, Subparts 1.5.4 and 1.5.5 | 607 (DP, TP and/or BA) | 1 | 607 | 8 hrs.; $618.32 | 4,856 hrs.; $375,320.24 | $618.32
New Total for MOD-031-3 for Renewal |  |  |  |  | 4,856 hrs.; $375,320.24 |

MOD-032-1
[Verification of models and data for turbine/governor and load control or active power/frequency control functions]
| Number of respondents | Annual number of responses per respondent | Total number of responses | Average burden & cost per response | Total annual burden hours & total annual cost | Cost per respondent ($)
| (1) | (2) | (1) * (2) = (3) | (4) | (3) * (4) = (5) | (5) ÷ (1)
Data Submittal | 2,126 (BA, GO, PA/PC, RP, TO, TP, and TSP) | 1 | 2,126 | 8 hrs.; $618.32 | 17,008 hrs.; $1,314,548.32 | $618.32
Evidence Retention | 2,126 (BA, GO, PA/PC, RP, TO, TP, and TSP) | 1 | 2,126 | 1 hr.; $39.58 | 2,126 hrs.; $84,147.08 | 39.58
Total |  |  |  |  | 19,134 hrs.; $1,398,695.40 |

MOD-033-2 (Formerly MOD-033-1)
[Steady-state and dynamics system model validation]
| Number of respondents | Annual number of responses per respondent | Total number of responses | Average burden & cost per response | Total annual burden hours & total annual cost | Cost per respondent ($)
| (1) | (2) | (1) * (2) = (3) | (4) | (3) * (4) = (5) | (5) ÷ (1)
Data Submittal | 177 (RC and TOP) | 1 | 177 | 8 hrs.; $618.32 | 1,416 hrs.; $109,442.64 | $618.32
Evidence Retention | 239 (PA/PC, RC, and TOP) | 1 | 239 | 1 hr.; $39.58 | 239 hrs.; $9,459.62 | 39.58
New Total for MOD-033-2 Renewal |  |  |  |  | 1,655 hrs.; $118,902.26 |

The total annual estimated burden and cost for the FERC-725L information collection is 48,659 hours and $2,255,507.94 respectively.

⁶ The number of respondents for MOD-025-2/MOD-026-1/MOD-027-1/MOD-31-3/MOD-032-/MOD-033-2 are from the NERC compliance registry April 16, 2024.

⁷ The estimated hourly cost (salary plus benefits) based on the Bureau of Labor Statistics (BLS), as of 2023, for an Electrical Engineer (17-2071) $77.29/hr.

⁸ The estimated hourly cost (salary plus benefits) based on the Bureau of Labor Statistics (BLS), as of 2023 Information and Record Clerk (43-4199) $39.58/hr.

⁹ It is estimated that the applicable numbers of generator owner respondents used to calculate the public reporting burden for these standards MOD-026-1, MOD-027-1, MOD-031-3, MOD-032-1, and MOD-033-1 is half of total numbers of GO (605=1210/2) due to the higher applicability threshold for those Reliability Standards.

¹⁰ The estimated hourly cost (salary plus benefits) based on the Bureau of Labor Statistics (BLS), as of 2023, for an Electrical Engineer (17-2071) $77.29/hr.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 2, 2024.
Debbie-Anne A. Reese,
Acting Secretary.

[FR Doc. 2024-23297 Filed 10-9-24; 8:45 am]

BILLING CODE 6717-01-P